NATIONAL AERONAUTICS AND SPACE ADMINISTRATION

48 CFR Part 1852

RIN 2700-AD03

NASA Research Announcements—Small Business Subcontracting Plans and Publication Acknowledgement and Disclaimers

AGENCY: National Aeronautics and Space Administration.

ACTION: Proposed rule.

SUMMARY: This proposed rule amends the NASA FAR Supplement to require for NASA Research Announcements: Submission of a small business subcontracting plan with any proposal having subcontracting possibilities that may result in the award of a contract whose value exceeds $500,000; and acknowledgement of NASA sponsorship and disclaimer of agency endorsement of results.

DATES: Comments must be received by November 26, 2004.

ADDRESSES: Interested parties may submit comments, identified by RIN number 2700-AD03, via the Federal eRulemaking Portal: http://www.regulations.gov. Follow the instructions for submitting comments. Comments may also be submitted to Patrick Flynn, NASA, Office of Procurement, Contract Management Division (Code HK), Washington, DC 20546. Comments can also be submitted by e-mail to: patrick.flynn@nasa.gov.

FOR FURTHER INFORMATION CONTACT: Patrick Flynn, NASA, Office of Procurement, Contract Management Division (Code HK); (202) 358-0460; e-mail: patrick.flynn@nasa.gov.

SUPPLEMENTARY INFORMATION:

A. General

The current process requires submission of a Small Business Subcontracting Plan when appropriate, at the award stage of the NASA Research Announcement (NRA) cycle. It is often too late to consider small business subcontracting at this stage if it was not planned in advance. Under this proposed rule requiring submission of the plan with the proposal, offerors will consider small business subcontracting opportunities in their proposal planning process. This change in process will significantly increase the opportunities for small business participation in NASA Research Announcements and research and development contracting within the Agency. The NASA Guidebook for Proposers Responding to a NRA currently advises NRA proposers to document all publications with an acknowledgement as well as include a disclaimer on certain published materials. However, regulatory language, which allows implementation of these requirements, does not currently exist. This change will require incorporation of the acknowledgement and disclaimer language on the appropriate published material.

This proposed rule is not a major rule under 5 U.S.C. 804.

B. Regulatory Flexibility Act

This proposed rule does not constitute a significant revision within the meaning of FAR 1.501 and Pub. L. 98-577, and publication for public comment is not required. However, NASA will consider comments from small entities concerning the affected NFS Part 1835 in accordance with 5 U.S.C. 610.

C. Paperwork Reduction Act

The Paperwork Reduction Act does not apply because the changes do not impose recordkeeping or information collection requirements which require the approval of the Office of Management and Budget under 44 U.S.C. 3501, et seq.

List of Subjects in 48 CFR Part 1852

Government procurement.

Tom Luedtke,
Deputy Chief Acquisition Officer/ Director for Procurement.

Accordingly, 48 CFR part 1852 is proposed to be amended as follows:

PART 1852—SOLICITATION PROVISIONS AND CONTRACT CLAUSES

1. The authority citation for 48 CFR Part 1852 continues to read as follows:

Authority: 42 U.S.C. 2473(c)(1).

2. Amend section 1852.235-72 by revising the date of the clause and paragraph (a)(4) to read as follows:

1852.235-72 Instructions for responding to NASA research announcements.

* * * * *

Instructions for Responding to NASA Research Announcements (Month/Year of Final Rule Publication Date)

(a) * * *

(4) A contract, grant, cooperative agreement, or other agreement may be used to accomplish an effort funded in response to an NRA. NASA will determine the appropriate award instrument. Contracts resulting from NRAs are subject to the Federal Acquisition Regulation and the NASA FAR Supplement. Any proposal from a large business concern that may result in the award of a contract, which exceeds $500,000 and has subcontracting possibilities should include a small business subcontracting plan in accordance with the clause at FAR 52.219-9, Small Business Subcontracting Plan. Any resultant grants or cooperative agreements will be awarded and administered in accordance with the NASA Grant and Cooperative Agreement Handbook (NPR 5800.1).

* * * * *

1852.235-73 [Amended]

3. A. Amend section 1852.235-73 by revising the date of the clause to read [Date of Final Rule publication] and, in the first sentence of paragraph (b) removing the reference “NPG 2200.2A” and adding “ NPR 2200.2” in its place.

B. Amend section 1852.235-73, Alternate II, by revising the date of the clause and adding a new paragraph (f) to read as follows:

Alternate II (Month/Year of Final Rule Publication Date)

* * * * *

(f) All publications of any material based on or developed under NASA sponsored projects shall include an acknowledgement similar to the following:

“The material is based upon work supported by the National Aeronautics and Space Administration under Contract Number XXXX.”

Except for articles or papers published in scientific, technical or professional journals, the exposition of results from NASA supported research shall also include the following disclaimer:

“Any opinions, findings, and conclusions or recommendations expressed in this material are those of the author(s) and do not necessarily reflect the views of the National Aeronautics and Space Administration.”

[FR Doc. 04-21414 Filed 9-24-04; 8:45 am]

BILLING CODE 7510-13-P